COMMITTEE FOR PURCHASE FROM PEOPLE WHO ARE BLIND OR SEVERELY DISABLED

Procurement List; Proposed Additions and Deletions

AGENCY: Committee for Purchase from People Who are Blind or Severely Disabled.

ACTION: Proposed Additions to and Deletions from the Procurement List.

SUMMARY: The Committee is proposing to add services to the Procurement List that will be provided by nonprofit agencies employing persons who are blind or have other severe disabilities, and deletes products previously furnished by such agencies.

DATES: Comments Must be Received On or Before: 7/1/2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type/Location: Janitorial/Custodial Service, Missouri River Area Office, 790 E. Highway 224, Napoleon, MO.

NPA: Cooperative Workshops, Inc., Sedalia, MO.

Contracting Activity: Dept of the Army, W071 ENDIST Kansas City, Kansas City, MO.

Service Type/Location: Grounds Maintenance Service, U.S. Census Bureau National Processing Center, 1201 E 10th Street, Jeffersonville, IN.

NPA: Rauch, Inc., New Albany, IN.

Contracting Activity: Dept Of Commerce, Bureau of the Census, Jeffersonville, IN.

Service Type/Location: Janitorial/Custodial Service, Drug Enforcement Agency (DEA) Aviation Facility, 2300 Horizon Drive, Fort Worth, TX.

NPA: Crossroads Diversified Service, Inc., Sacramento, CA.

Contracting Activity: Dept Of Justice, Headquarters-Drug Enforcement Administration, Arlington, VA.

Deletions

The following products are proposed for deletion from the Procurement List:

Products

Yardstick

NSN: 5210-00-243-3349.

NPA: Northeastern Michigan Rehabilitation and Opportunity Center (NEMROC), Alpena, MI.

Contracting Activities: General Services Administration, Tools Acquisition Division II, Kansas City, MO.

Scarf, Head-Over

NSN: 8440-01-291-5451.

NPA: ASPIRO, Inc., Green Bay, WI.

Contracting Activity: Defense Logistics Agency Troop Support, Philadelphia, PA.

Barry S. Lineback,
Director, Business Operations.

[FR Doc. 2013-12901 Filed 5-30-13; 8:45 am]

BILLING CODE 6353-01-P